DEPARTMENT OF TRANSPORTATION

Office of the Secretary

Notice of Applications for Certificates of Public Convenience and Necessity and Foreign Air Carrier Permits Filed Under Subpart B (Formerly Subpart Q) During the Week Ending March 2, 2007

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-27402.

Date Filed: February 26, 2007.

Due Date for Answers, Conforming Applications, or Motion to Modify Scope: March 19, 2007.

Description: Application of Porter Airlines Inc. requesting and foreign air carrier permit authorizing scheduled air transportation of persons, property and mail between a point or points in Canada on the one hand, and a point or points in the United States, on the other hand.

Renee V. Wright,
Program Manager, Docket Operations, Federal Register Liaison.

[FR Doc. E7-4637 Filed 3-13-07; 8:45 am]

BILLING CODE 4910-9X-P